OFFICE OF NATIONAL DRUG CONTROL POLICY

Appointment of Members of Senior Executive Services Performance Review Board.

AGENCY: Office of National Drug Control Policy [ONDCP].

ACTION: Notice of Appointments.

Heading: Appointment of Members of Senior Executive Services Performance Review Board.

SUMMARY: The following persons have been appointed to the ONDCP Senior Executive Service Performance Review Board: Dr. Terry Zobeck, Ms. Martha Gagne, Ms. Christine Leonard, and Mr. Patrick Ward.

FOR FURTHER INFORMATION CONTACT: Please direct any questions to Linda V. Priebe, Deputy General Counsel (202) 395-6622, Office of National Drug Control Policy, Executive Office of the President, Washington, DC 20503.

Linda V. Priebe,
Deputy General Counsel.

[FR Doc. 2010-22794 Filed 9-13-10; 8:45 am]

BILLING CODE 3180-02-P